NATIONAL INDIAN GAMING COMMISSION

25 CFR Part 542

RIN 3141-AA24

Minimum Internal Control Standards

AGENCY: National Indian Gaming Commission.

ACTION: Advance notice of proposed rulemaking.

SUMMARY: The National Indian Gaming Commission (the Commission) proposes to revise its regulations establishing minimum internal control standards (MICS) for gaming operations on Indian land. This notice announces the initiation of the rulemaking process and requests information relevant to revision of the Commission's regulations governing minimum internal control standards for gaming facilities operated on Indian land.

DATES: Submit comments on or before March 2, 2001.

ADDRESSES: Send comments by mail, facsimile, or delivery to: Minimum Internal Control Standards, First Revision Comments, National Indian Gaming Commission, Suite 9100, 1441 L Street NW., Washington, DC 20005. Fax number: 202-632-7066 (not a toll-free number). Public comments may be delivered or inspected from 9 a.m. until noon and from 2 p.m. to 5 p.m. Monday through Friday.

FOR FURTHER INFORMATION CONTACT: Joe H. Smith at 503-326-7050, or by facsimile at 503-326-5092 (not toll-free numbers).

SUPPLEMENTARY INFORMATION:

1. Introduction

The Indian Gaming Regulatory Act (IGRA), 25 U.S.C. 2701-2721, was signed into law on October 17, 1988, creating the Commission and establishing a comprehensive system for regulating gambling activities on Indian lands. Following a thorough rulemaking process, that included a tribal advisory committee and public hearings, the Commission determined that minimum internal control standards were needed to ensure the integrity of gaming on Indian lands and to safeguard this source of tribal revenues. On January 5, 1999, the Commission published its Minimum Internal Control Standards, 25 CFR Part 542. In developing the MICS, the Commission anticipated that the regulation would be subject to periodic revision to maintain consistency with evolving technology and sound practice in the gaming industry. The Commission recognized the importance of ensuring that tribal gaming operations were not locked into internal control systems that contained unworkable requirements or that placed those operations at a competitive disadvantage. Overall, implementation of the MICS has had a positive impact on the ability of tribal oversight officials and the Commission to identify potential threats to the integrity of Indian gaming operations. As anticipated, however, in the period since publication of the MICS, there have been changes in Indian gaming and gaming technology that may need to be reflected in the MICS. Additionally, as gaming tribes and the Commission have gained practical experience with the MICS, it has become apparent that there are some technical errors in the regulation and that some of the standards themselves may not be operating as the Commission had intended.

2. Advance Notice of Proposed Rulemaking

To maintain the vitality of the MICS, the Commission has determined that the appropriate course of action is to publish an Advance Notice of Proposed Rulemaking to identify MICS provisions that may be in need of revision after more than a year of experience with those regulations.

3. Request for Comments

Public comment is requested to assist the Commission in the drafting of the first revision to 25 CFR Part 542. Comment is requested on the following issues:

(a) What are the major difficulties that have been encountered in the implementation of the MICS in Indian gaming facilities? How might the MICS be revised to address such difficulties?

(b) What other problems, drafting errors or inconsistencies do the MICS present? How should the Commission address these?

(c) Are there any other areas that should be addressed by the MICS? How should the Commission address these?

The Commission solicits any additional suggestions and/or interpretations regarding the issues raised in this Advance Notice of Proposed Rulemaking.

4. Public Participation

As noted above, interested parties are invited to submit comments on any or all of these and other pertinent issues related to revision of the MICS by March 2, 2001, in triplicate to Minimum Internal Control Standards, First Revision Comments, National Indian Gaming Commission, Suite 9100, 1441 L Street NW., Washington, DC. 20005. Fax number: 202-632-7066 (not a toll-free number). All written comments submitted in response to this notice will be available for inspection and copying in the Commission office from 9 a.m. until noon and from 2 p.m. to 5 p.m. Monday through Friday. All timely written submissions will be considered in determining the nature of any proposal.

Dated: November 20, 2000.
Richard Schiff,
Deputy Chief of Staff, National Indian Gaming Commission.

[FR Doc. 00-30077 Filed 11-24-00; 8:45 am]

BILLING CODE 7565-01-P